SMALL BUSINESS ADMINISTRATION

[Declaration of Disaster #3348; Amendment #1]

State of Louisiana

In accordance with a notice received from the Federal Emergency Management Agency, dated June 14, 2001, the above-numbered Declaration is hereby amended to include Beauregard, Iberia, Jefferson, Orleans, St. Bernard, St. Charles, St. James, St. John the Baptist, St. Mary, St. Tammany, Tangipahoa and Washington Parishes in the State of Louisiana as disaster areas caused by Tropical Storm Allison occurring on June 5, 2001 and continuing.

In addition, applications for economic injury loans from small businesses located in Allen, Calcasieu, Plaquemines and Vernon Parishes in the State of Louisiana; Amite, Hancock, Marion, Pearl River, Pike, and Walthall in the State of Mississippi; and Newton County in the State of Texas may be filed until the specified date at the previously designated location. Any counties contiguous to the above named primary counties and not listed here have been previously declared.

The economic injury number assigned is 9L9100 for Texas and 9L9400 for Mississippi.

All other information remains the same, i.e., the deadline for filing applications for physical damage is August 10, 2001, and for loans for economic is March 11, 2002.

(Catalog of Federal Domestic Assistance Program Nos. 59002 and 59008)
Dated: June 18, 2001.
Herbert L. Mitchell,
Associate Administrator for Disaster Assistance.

[FR Doc. 01-15739 Filed 6-21-01; 8:45 am]

BILLING CODE 8025-01-P